ENVIRONMENTAL PROTECTION AGENCY

[ER-FRL-8587-6]

Environmental Impact Statements and Regulations; Availability of EPA Comments

Availability of EPA comments prepared Pursuant to the Environmental Review Process (ERP), under section 309 of the Clean Air Act and section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080336, ERP No. D-AFS-L65557-OR, Farley Vegetation Management Project, To Conduct Timber Harvest Commercial and Non-Commercial Thinning, Fuels Treatment Prescribed Burning and Reforestation, Desolation Creek, North Fork John Day Ranger District, Umatilla National Forest, Grant County, OR.

Summary: EPA expressed environmental concerns about wildfire analysis, potential unauthorized public vehicle use, and water quality impacts from grazing. EPA recommends that the final EIS include assurances that appropriate subsequent treatments will be conducted to maintain the decreases in fire risk. Also, the final EIS should consider increasing riparian plantings and enclosures and modifying project design elements for road closure/decommissioning enforcement and monitoring. Rating EC2.

EIS No. 20080344, ERP No. D-COE-F39042-MN, Mississippi River Headwaters Reservoir Operating Plan Evaluation (ROPE), Proposed Revision to the Operating Plan for the Reservoirs, Upper Mississippi River Headwaters, Bemidji to St. Paul, MN.

Summary: EPA expressed concerns about impacts to water quality, migratory bird populations and tribal harvests of wild rice. EPA also recommended that the Final EIS include additional detailed and quantitative information and analyses regarding the potential environmental impacts, as well as more information regarding the project purpose and need. Rating EC2.

EIS No. 20080345, ERP No. D-USN-E11067-NC, Navy Cherry Point Range Complex, Proposed Action is to Support and Conduct Current and Emerging Training and Research, Development, Testing and Evaluation (RDT&E) Activities, South Atlantic Bight, Cape Hatteras, NC.

Summary: EPA expressed environmental concerns about the deposition of expended training materials and their potential impacts over time to reef complexes and hard bottom habitat. Rating EC2.

EIS No. 20080348, ERP No. D-USN-E11068-00, Undersea Warfare Training Range Project, Installation and Operation, Preferred Site Jacksonville Operating Area, FL and Alternative Sites (within the Charleston, SC; Cherry Point, NC; and VACAPES Operating Areas, VA.

Summary: EPA expressed environmental concerns about the deposition of expended training materials and their potential impacts over time to reef complexes and hard bottom habitat. Rating EC2.

EIS No. 20080395, ERP No. D-AFS-J65523-00, Sioux Ranger District Travel Management Project, To Designate the Road and Trail and Areas Suitable for Public Motorized Travel, Sioux Ranger District, Custer National Forest, Carter County of MT and Harding County of South Dakota.

Summary: EPA expressed environmental concerns about potential effects to water quality, aquatic habitat, wildlife and other resources from roads and motorized uses. EPA supports the preferred alternative (B) and recommends further reductions in motorized routes in areas with high hazard (erosive) soils and in high risk watersheds. Rating EC2.

EIS No. 20080396, ERP No. D-AFS-J65524-MT, Ashland Ranger District Travel Management Project, Proposing to Designate Routes for Public Motorized Use, Ashland Ranger District, Custer National Forest, Rosebud and Power River Counties, MT.

Summary: EPA expressed environmental concerns about potential adverse impacts to water quality, aquatic habitat, wildlife and other resources from roads and motorized uses. EPA supports the preferred alternative (B), but recommends further reductions in motorized routes in areas with high hazard (erosive) soils and in high risk watersheds. Rating EC2.

EIS No. 20080356, ERP No. DS-AFS-K65298-CA, Kings River Project, New Information regarding Pacific Fisher (Martes pennanti), Proposal to Restore Historical Pre-1850 Forest Conditions, Implementation, High Sierra Ranger District, Sierra National Forest, Fresno County, CA.

Summary: EPA expressed environmental concerns about the Proposed Action that would result in a more intensive level of logging than is currently allowed. As a result, the project increases the risk of short-term and cumulative impacts to aquatic and late successional forest species. Rating EC2.

Final EISs

EIS No. 20080337, ERP No. F-BLM-J65502-00, PROGRAMMATIC EIS—Oil Shale and Tar Sands Resource Management (RMP) Amendments to Address Land Use Allocations in Colorado, Utah and Wyoming.

Summary: EPA continues to have environmental concerns about impacts to surface water and groundwater; air quality; and the adequacy of the cumulative impacts analysis.

EIS No. 20080379, ERP No. F-AFS-G65100-NM, Santa Fe National Forest Plan Amendment for Oil & Gas Leasing and Roads Management, Implementation, San Juan Basin, Cuba Ranger District, NM.

Summary: No formal comments were sent to the preparing agency.

EIS No. 20080382, ERP No. F-AFS-G65104-NM, Surface Management of Gas Leasing and Development, Proposes to Amend the Forest Plan include Standard and Guidelines Related to Gas Leasing and Development in the Jicarilla Ranger District, Carson National Forest, Rio Arriba County, NM.

Summary: No formal comment letter was sent to the preparing agency.

EIS No. 20080390, ERP No. F-BLM-J67034-MT, Montana Tunnels Mine Project, Proposed M-Pit Mine Expansion to Existing Mine Pit to Access and Mine Additional Ore Resources, Jefferson County, MT.

Summary: EPA continues to have environmental concerns about potential geochemical, hydrological and long-term water quality uncertainties and adequacy of financial assurances to address potential closure/post-closure environmental contamination.

EIS No. 20080402, ERP No. F-AFS-J65459-MT, Whitetail-Pipestone Travel Management, Develop Site-Specific Travel Management Plan, Jefferson and Butte Ranger Districts, Beaverhead-Deerlodge National Forest, Jefferson and Silver Bow Counties, MT.

Summary: EPA continues to express environmental concerns about potential effects to water quality, aquatic habitat, and other resources from roads and motorized uses.

Dated: November 10, 2008.
Ken Mittelholtz,
Environmental Protection Specialist, Office of Federal Activities.

[FR Doc. E8-27108 Filed 11-13-08; 8:45 am]

BILLING CODE 6560-50-P